DEPARTMENT OF JUSTICE

Notice of Lodging of Proposed Consent Decree

In accordance with Departmental Policy, 28 CFR 50.7, notice is hereby given that a proposed consent decree in United States v. Roger D. Williams, Civil Action No. 2:00CV296 (E.D. Va.), was lodged with the United States District Court for the Eastern District of Virginia, Norfolk Division, on April 21, 2000. This proposed Consent Decree concerns a complaint filed by the United States against Roger D. Williams, pursuant to sections 309(b) and (d) of the Clean Water Act, 33 U.S.C. 1319(b) and (d), to obtain injunctive relief and impose civil penalties against Roger D. Williams for alleged violation of sections 301 and 404 of the Clean Water Act, 33 U.S.C. 1311 and 1344, by unlawfully discharging and/or controlling and directing the discharge of dredged and fill materials into waters of the United States at a 40-acre site located on Sondej Avenue immediately east of Bowers Hill Auto Parts and south of South Military Highway in the city of Chesapeake, Norfolk County, Virginia. The proposed Consent Decree requires Roger D. Williams to perform a restoration project at the site.

The Department of Justice will accept written comments relating to this proposed Consent Decree for thirty (30) days from the date of publication of this notice. Please address comments to: Yvette M. Wilkerson-Barron, U.S. Department of Justice, Environment and Natural Resources Division, Environmental Defense Section, P.O. Box 23986, Washington, DC 20026-3986, and refer to United States v. Roger D. Williams, DJ Reference No. 90-5-1-1-4518.

The proposed Consent Decree may be examined at the Clerk's Office of the United States District Court for the Eastern District of Virginia, 193 Walter E. Hoffman United States Courthouse, 600 Granby Street, Norfolk, Virginia.

Letitia J. Grishaw,
Chief Environmental Defense Section, Environment and Natural Resources Division, United States Department of Justice.

[FR Doc. 00-12481 Filed 5-17-00; 8:45 am]

BILLING CODE 4410-15-M